DEPARTMENT OF TRANSPORTATION

Federal Railroad Administration

[Docket Number FRA-2009-0072]

Petition for Extension of Waiver of Compliance

Under part 211 of title 49 Code of Federal Regulations (CFR), this document provides the public notice that on October 8, 2024, Tri-County Metropolitan Transportation District of Oregon (TriMet) petitioned the Federal Railroad Administration (FRA) for an extension of a waiver of compliance from certain provisions of the Federal railroad safety regulations contained at 49 CFR part 222 (Use of Locomotive Horns at Public Highway-Rail Grade Crossings). The relevant Docket Number is FRA-2009-0072.

Specifically, TriMet seeks an extension of relief from §§ 222.21(a) and 222.21(b)(2), which require locomotive horns to be sounded when approaching public highway-rail grade crossings, using the “long-long-short-long” pattern that begins 15 to 20 seconds before the locomotive reaches the crossing, but no further than ¼ mile from the crossing. The current waiver permits TriMet to use a 60 dB(A) locomotive bell in lieu of the locomotive horn at three crossings on the Lombard segment of TriMet's Westside Express Service (WES) in Beaverton, Oregon.

In support of its petition, TriMet stated that the three crossings are equipped with flashing lights, bells, and either traffic signals or crossing gates. Further, TriMet stated that “WES train speeds are positively enforced at a maximum of 10 [miles per hour] along the Lombard segment,” which includes the three crossings. TriMet additionally noted that the waiver relief “has not been the cause of any accidents, nor has it created any safety hazards at or near the specified crossings.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by February 28, 2025 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-31055 Filed 12-27-24; 8:45 am]

BILLING CODE 4910-06-P